DEPARTMENT OF TRANSPORTATION

Federal Aviation Administration

14 CFR Parts 91, 121, and 125

[Docket No.: FAA-2013-0579; Amendment Nos. 91-329, 121-364 and 125-62]

RIN 2120-AK27

Flight Data Recorder Airplane Parameter Specification Omissions and Corrections

AGENCY: Federal Aviation Administration (FAA), DOT.

ACTION: Final rule; disposition of comments.

SUMMARY: On December 31, 2012, the FAA published a final rule with a request for comments amending the operating regulations for flight data recorders by correcting errors in recording rates in three different appendices. These errors created requirements that could not be met by certain airplanes without extensive modification, which was not intended when the requirements were adopted. The corrected recording rates are as intended when the applicable flight data recorder parameter requirements were adopted, but which had been omitted from the then current publication of the regulatory text.

DATES: January 13, 2014.

ADDRESSES: You may review the public docket for this rulemaking (Docket No. FAA-2012-1333) at the Docket Management Facility in Room W12-140 of the West Building Ground Floor at 1200 New Jersey Avenue SE., Washington, DC, 20590-0001 between 9 a.m. and 5 p.m., Monday through Friday, except Federal holidays. You may also review the public docket on the Internet at http://www.regulations.gov.

FOR FURTHER INFORMATION CONTACT: For technical questions concerning this action contact Chris Parfitt, Flight Standards Service, Aircraft Maintenance Division-Avionics Maintenance Branch, AFS-360, Federal Aviation Administration, 800 Independence Avenue SW., Washington, DC 20591; telephone (202) 385-6398; email chris.parfitt@faa.gov.

For legal questions concerning this action contact Karen Petronis, International Law, Legislation and Regulations Division (AGC-200), Office of the Chief Counsel, Federal Aviation Administration, 800 Independence Avenue SW., Washington, DC 20591; telephone (202) 267-3073, email Karen.Petronis@faa.gov.

SUPPLEMENTARY INFORMATION:

Background

The final rule amended three appendices in 14 CFR related to flight data recorder (FDR) requirements:

• First, Appendix E to part 91 was amended to correct a typographical error introduced when the rule was published. For the altitude parameter, the sampling rate per second was listed as 11. The correct rate had always been 1 sample per second.

• The second and third corrections concerned identical standards in Appendix M to part 121 and Appendix E to part 125. When footnote 5 was added in 1999 to each Appendix, the sampling interval was left off for certain airplanes. The correction put the sampling interval of once per second back in the footnote for the affected airplanes.

None of these changes required action by airplane owners, operators or manufacturers as the affected airplanes already complied with the requirements of the originally adopted rules and the corrections adopted. Since these requirements were intended in the original rules, there was no new impact on safety.

Discussion of Comments

The FAA received no comments on the final rule.

Conclusion

Since no comments were submitted in response to the final rule, the FAA has determined that no revisions to the rule are warranted.

Issued under authority of 49 U.S.C. 106(f) and 44701(a)(5) in Washington, DC.
Lirio Liu,
Director, Office of Rulemaking.

[FR Doc. 2014-00383 Filed 1-10-14; 8:45 am]

BILLING CODE 4910-13-P